DEPARTMENT OF AGRICULTURE

Office of the Secretary

Notice of the Research, Education, and Economics Task Force Meeting

AGENCY: Research, Education, and Economics; USDA.

ACTION: Notice of meeting.

SUMMARY: In accordance with the Federal Advisory Committee Act, 5 U.S.C. App., the United States Department of Agriculture announces a meeting of the Research, Education, and Economics Task Force.

DATES: The Research, Education, and Economics Task Force will meet on July 31, 2003.

The public may file written comments before or up to two weeks after the meeting with the contact person.

ADDRESSES: On July 31, the meeting will take place at the Phoenix Park Hotel (TENTATIVE), 20 North Capitol Street, NW., Washington, DC 20001.

Written comments from the public may be sent to the contact person identified in this notice at: The Research, Education, and Economics Task Force; Office of the Under Secretary, Room 214-W, Jamie L. Whitten Building, United States Department of Agriculture, 1400 Independence Ave., SW., Washington, DC 20250.

FOR FURTHER INFORMATION CONTACT: Kathryn Boots, Executive Director, Research, Education, and Economics Task Force; telephone: (202) 690-0826; fax: (202) 690-2842; or email: katie.boots@usda.gov.

SUPPLEMENTARY INFORMATION: On Thursday, July 31, 2003, the Research, Education, and Economics Task Force will hold a general meeting at the Phoenix Park Hotel (TENTATIVE). The Task Force will begin its evaluation of the merits of establishing one or more National Institutes focused on disciplines important to the progress of food and Agricultural science. In the morning there will be welcoming remarks made by the Chairman of the Task Force, Dr. William Danforth, Chancellor Emeritus, Vice Chairman, Board of Trustees, Washington University in St. Louis, as well as the USDA Under Secretary for Research, Education, and Economics (REE), Dr. Joseph J. Jen. Welcoming remarks will be followed by a presentation by Dr. Mary Clutter, Assistant Director, Directorate for Biological Sciences, National Science Foundation (NSF), about how research is conducted at NSF. Dr. Anthony Fauci, Director of the National Institute of Allergy and Infections Diseases, National Institutes of Health (NIH), will follow Dr. Clutter's presentation, with a presentation about how research is conducted at NIH. Following Dr. Fauci's presentation, a representative from each of the four REE Agencies, including the Agricultural Research Service (ARS), the Economic Research Service (ERS), the Cooperative State Research, Education, and Extension Service (CSREES), and the National Agricultural Statistics Service (NASS), will give a brief presentation of how research is conducted in each agency. There will be a working lunch, followed by an afternoon session consisting of a general discussion among Task Force members where they will begin their evaluation of the merits of establishing one or more National Institutes focused on disciplines important to the progress of food and Agricultural science. The Task Force Meeting will adjourn on Thursday, July 31, 2003 around 4 p.m. This meeting is open to the public. Due to a delay, this notice could not be published at least 15 days prior to the meeting date. The meeting will be held as scheduled because of the significant sacrifice rescheduling would require of Task Force members who have adjusted their schedules to accommodate the proposed meeting date.

Written comments for the public record will be welcomed before and up to two weeks following the Task Force meeting (by close of business Thursday, August 14, 2003). All statements will become part of the official record of the Research, Education, and Economics Task Force and will be kept on file for public review in the Office of the Under Secretary for Research, Education, and Economics.

Dated Washington, DC, this 15 day of July 2003.
Joseph J. Jen,
Under Secretary, Research, Education, and Economics.

[FR Doc. 03-18446 Filed 7-18-03; 8:45 am]

BILLING CODE 3401-03-P